DEPARTMENT OF TRANSPORTATION

Surface Transportation Board

[STB Finance Docket No. 35116]

R.J. Corman Railroad Company/Pennsylvania Lines Inc.—Construction and Operation Exemption—In Clearfield County, PA

ACTION: Notice of Availability of the Final Scope of Study for the Environmental Impact Statement.

SUMMARY: On May 20, 2008, R.J. Corman Railroad Company/Pennsylvania Lines Inc. (RJCP) filed a petition with the Surface Transportation Board (Board) pursuant to 49 U.S.C. 10502 for authority to construct and operate an abandoned 10.8-mile rail line between Wallaceton Junction and Winburne in Clearfield County, Pennsylvania (the Western Segment) and to reactivate a connecting 9.3-mile line between Winburne and Gorton in Clearfield and Centre Counties, Pennsylvania (the Eastern Segment) that is currently being used for interim trail use, subject to the possible restoration of rail service (rail banking) pursuant to the Trails Act, 16 U.S.C. 1247(d). In total, the proposed project would involve the construction, rebuilding, and operation of approximately 20 miles of the former Beech Creek Rail Line to serve a new quarry, landfill, and industrial park being developed by Resource Recovery, LLC, near Gorton, Pennsylvania.¹

¹ On July 27, 2009, the Board issued a decision finding that RJCP does not need construction authority under 49 U.S.C. 10901 or 49 U.S.C. 10502 to reactivate the rail banked Eastern Segment. Nevertheless, the environmental review process will encompass the entire 20 miles of proposed rail line (i.e., both the Eastern and Western Segments), for the reasons discussed in the Draft Scope of Study and the Board's July 27th decision. See R.J. Corman Railroad Company/Pennsylvania Lines Inc.—Construction and Operation Exemption—In Clearfield County, PA, STB Finance Docket No. 35116 (STB served July 27, 2009).

Because this project has the potential to result in significant environmental impacts, the Board's Section of Environmental Analysis (SEA) has determined that the preparation of an Environmental Impact Statement (EIS) is appropriate pursuant to the National Environmental Policy Act of 1969 (NEPA), as amended (42 U.S.C. 4321 et seq.). On January 8, 2009, SEA published a Notice of Intent (NOI) to prepare an EIS in the Federal Register announcing the start of the scoping process, the availability of the Draft Scope of Study, and the date/time/location for a public scoping meeting. Invitation letters for the public scoping meeting were mailed to 31 federal, state, and local agencies, as well as local elected officials. Additionally, an advertisement was placed in two local area newspapers, the Centre Daily Times and the Progress News, to announce the public scoping meeting.

Approximately 130 individuals attended the open-house scoping meeting held on February 10, 2009 at the Philipsburg-Osceola Area Senior High School in Philipsburg, Pennsylvania. In total, SEA received:

• 100 comments from individuals attending the open house meeting;

• 13 comment letters; and

• 17 individual comments filed electronically on the Board's Web site/e-mail.

Based on the comments received and further analysis, SEA has prepared the Final Scope of Study for the EIS, which is included in this notice.

Address for Further Information: Written requests for further information on the proposed project should be directed to: Danielle Gosselin, Surface Transportation Board, 395 E Street, SW., Washington, DC 20423.

Electronic requests may be made via the Board's Web site, http://www.stb.dot.gov, by clicking on the “E-FILING” link. Please refer to STB Finance Docket No. 35116 in all correspondence, including e-filings, addressed to the Board.

Environmental Review Process: The NEPA environmental review process is intended to assist the Board and the public in identifying and assessing the potential environmental consequences of a proposed action before a decision on the proposed action is made. Based on the information provided in RJCP's filing, and the project's potential to result in significant environmental impacts, SEA (the office within the Board responsible for preparing the Board's environmental documentation under NEPA, and related environmental statutes) has decided to prepare a full EIS. The EIS will include all of the environmental information necessary for the Board to take the hard look at environmental consequences required by NEPA.

On January 8, 2009, SEA issued a NOI to individuals and agencies potentially interested in or affected by the proposed project informing them of the Board's decision to prepare an EIS and to initiate the formal scoping process. In the NOI, SEA also made available the Draft Scope of Study and requested comments. A public scoping meeting was held and comments were received between January 8, 2009 and February 24, 2009. After carefully reviewing the public comments, SEA is issuing this Final Scope of Study for the EIS.

The Draft EIS will address the environmental issues and concerns identified during the scoping process and detailed in this Final Scope of Study. It will also include an analysis of project alternatives and preliminary recommendations for environmental mitigation measures.

The Draft EIS will be made available upon its completion for review and comment by the public, government agencies, and other interested parties. A public meeting will be held during the comment period for the Draft EIS. The details of the public meeting, including the specific format, location, and date, will be available in the Draft EIS. SEA will then prepare a Final EIS that considers comments on the Draft EIS, sets forth any additional analyses, and makes final recommendations to the Board on appropriate mitigation measures. In reaching its decision in this case, the Board will take into account the full environmental record, including the Draft EIS, the Final EIS, and all timely environmental comments that are received.

Discussion: The principal issues raised by commenters during scoping are briefly outlined and responded to below. Many of the comments submitted raised the same or similar issues. Thus, SEA has used the plural term, “commenters” to refer to all persons submitting comments, including individuals.

Nature of the Public Scoping Meeting

A number of comments were submitted relating to the format of the public scoping meeting held on February 10, 2009. Several commenters expressed disappointment in the open-house/plans display meeting format used for the public scoping meeting. At the meeting, project personnel were staffed at display boards, and formal comment sheets were available. However, commenters indicated that they would have preferred a public meeting format with a formal project presentation followed by an audience-wide question and answer session. Many commenters noted that they did not feel as if they were able to effectively voice their concerns about the project.

The open-house/plans display style of public meeting that was held in this case is often used in the early stages of project development to allow more individual interaction between the project study team and the public. The format used here is particularly appropriate for public scoping meetings, where one of the primary reasons for the meeting is for the project study team to gather important project-related information from the public, rather than to present the findings of detailed studies, which would not have occurred yet in the early stages of a project. SEA recognizes the importance of providing opportunities for public comment. All interested parties, agencies, government entities, and members of the general public will have the opportunity to submit written comments upon release of the Draft EIS and prior to issuance of the Final EIS and to participate at the additional public meeting that will be held in the project area when the Draft EIS has been issued. Therefore, attendees at the public scoping meeting who were disappointed with the scoping meeting format will have additional opportunities to express their views and concerns about this project as the environmental review process proceeds.

Proposed Action and Alternatives

Connected Action Issue

Many of the concerns that emerged through the scoping process involved Resource Recovery's proposed landfill, quarry and industrial park development near Gorton in Rush Township, Centre County, and the nature of the materials that would be transported by RJCP over the proposed rail line. In fact, the vast majority of comments received were related to Resource Recovery's proposed landfill itself. Commenters indicated that they oppose the proposed landfill. In addition, a number of commenters requested that the Board expand the scope of the EIS to include the development of the landfill. These commenters argued that the proposed rail line and the landfill development should be considered connected actions under 40 CFR 1508.25. Commenters maintained that without the landfill, the rail line would not be commercially feasible.

Based on the available information to date including additional information submitted by RJCP and information provided by the public, SEA has determined that expanding the scope of the EIS to include the landfill development as a connected action is not warranted. As indicated in the Draft Scope of Study, however, the landfill, quarry and industrial park will be appropriately examined in the Draft EIS as part of the cumulative impacts analysis for the proposed project. The Draft EIS will include further detailed discussion of this connected action issue as well.

Alternate Route to Munson

One commenter at the public scoping meeting suggested that an alternate route to Munson was available that would potentially avoid and minimize many of the socioeconomic, transportation and safety, noise, and land use impacts associated with RJCP's proposed Western Segment, which stretches 10.8 miles between Wallaceton and Winburne. The alternate alignment, known as the Munson Alternative, would utilize approximately 7 miles of the former Conrail right of way last referred to as the Philipsburg Industrial Track. This route would extend south from Munson to a point near Philipsburg. Like the rest of the Western Segment, the Philipsburg Industrial Track was also part of the “Clearfield Cluster” abandoned by Conrail in 1995 pursuant to ICC Docket No. AB-167 (Sub-No. 1146X). The alternate alignment follows the Western Segment west from Winburne to Munson, but then heads south over the former Philipsburg Industrial Track. At the southern end of the Philipsburg Industrial Track, a new 2,500-foot connection would be constructed to tie into RJCP's existing Wallaceton Subdivision line at or near milepost 24.62.

It appears that this alternate route would avoid and minimize a number of the potential environmental issues associated with RJCP's Western Segment by impacting significantly fewer adjacent homes and by crossing fewer public roads and private drives. According to RJCP, this alternate route would provide rail service to several new shippers. Operationally, this alternative alignment would require approximately 4.5 miles of additional travel over RJCP's active Wallaceton Subdivision (i.e., Wallaceton Junction to milepost 24.62 outside Philipsburg), but would involve slightly less construction activity (8 miles from Wallaceton to Munson reduced to 7 miles from Philipsburg to Munson plus ½ mile of new connecting track). Therefore, the Munson Alternative will be included for detailed study as part of the EIS alternatives analysis process.

Environmental Impact Categories

Transportation and Safety

Some commenters expressed concern about RJCP's planned transport of municipal solid waste over the proposed rail line, raising issues related to containment during transport, leakage during transport, and environmental damage/degradation associated with potential derailment. These issues will be included and evaluated as part of the transportation and safety section of the EIS.

Air Quality

Some commenters expressed concern about the potential for odors emanating from rail cars hauling municipal solid waste. To address these comments, the air quality scope of work has been revised to include a qualitative assessment of this issue.

Biological Resources

Some commenters expressed concern regarding the potential for vermin/vectors and disease associated with the transport of municipal solid waste. Based on these comments, the biological resources scope of work has been revised to include an evaluation of this issue.

Socioeconomics

Some commenters raised concerns about quality of life issues for residential property owners adjacent to the proposed rail line. Quality of life issues for adjacent property owners will be evaluated and presented as part of the study of potential socioeconomic impacts of the project in the EIS.

Final Scope of Study for the EIS

Proposed Action and Alternatives

The Proposed Action is the construction and operation of an abandoned 10.8-mile rail line between Wallaceton Junction and Winburne and the reactivation of 9.3 miles of currently rail banked line between Winburne and Gorton. The approximately 20 miles of track would allow RJCP to provide rail service to a proposed new landfill, quarry and industrial park being developed by Resource Recovery, LLC, near Gorton in Rush Township, Centre County, Pennsylvania. The anticipated train traffic would be two trains daily, with one train per day traveling in each direction. In addition to the Proposed Action, the EIS will analyze the potential impacts of two non-rail transportation options for the no-build alternative and a no-action alternative set forth below. Additionally, the Munson Alternative using the abandoned line of Conrail's former Philipsburg Industrial Track will be evaluated in the EIS.

Specifically, the reasonable and feasible alternatives that will be evaluated in the EIS are: (1) Construction and operation of the proposed rail line along the former Beech Creek line (including the alternate route to Munson using Conrail's former Philipsburg Industrial Track), (2) the no-build alternative option 1 involving the construction of a new interchange on Interstate 80, (3) the no-build alternative option 2, involving improving the existing local road system (i.e., road paving, bridge replacement etc.), and (4) the no-action alternative (i.e., status quo, no rail construction and reactivation or roadway improvements).

Environmental Impact Analysis

Proposed New Construction and Reactivation and Operation of Rail Banked Line

The EIS will address the proposed activities associated with the construction of new rail line, the reactivation of rail banked line and the operation of approximately 20 miles of rail line and potential environmental impacts, as appropriate.

Impact Categories

The EIS will analyze the potential impacts associated with the proposed project on both the human and natural environment, or in the case of the no-action alternative, the lack of these impacts. Impact areas to be addressed will include the following: Transportation and safety; land use; energy resources; air quality; noise; biological resources, including threatened and endangered species; water resources, including wetlands and other jurisdictional waters of the U.S.; socioeconomics as it relates to physical changes in the environment; recreation; environmental justice; geology and soils; and cultural/historic resources. The EIS will include a discussion of each of these categories as they currently exist in the project area and will address the potential impacts of each alternative on each category, as outlined below.

1. Transportation and Safety

The EIS will:

a. Evaluate potential pedestrian and motor vehicle safety concerns at each public and private at-grade road crossing.

b. Include a “level of service” (LOS) analysis, focusing on average vehicle delay time for all grade crossings having an average daily traffic volume of 5,000 or more vehicles.

c. Include an assessment of any appropriate safety measures that should be erected at each crossing.

d. Assess the project's operational safety (including the potential for derailments), taking into account the proposed line's close proximity to residential structures.

e. Evaluate the project's consistency with local and regional transportation planning goals.

f. Assess the potential for increased wildfires in remote forested areas as a result of daily rail operations.

g. Propose mitigation measures to minimize or eliminate potential project-related impacts to safety, as appropriate.

2. Land Use

The EIS will:

a. Identify existing land uses that would be potentially impacted by the project.

b. Evaluate potential changes to property values of adjacent property owners that could result from the proposed project.

c. Evaluate the project's consistency with local and regional land use planning goals.

d. Propose mitigation measures to minimize or eliminate potential impacts to land use, as appropriate.

3. Energy Resources

The EIS will:

a. Describe the potential effects of the project on energy resources, recyclable commodities, and overall changes in energy efficiency.

b. Propose mitigation measures to minimize or eliminate potential impacts to energy resources, as appropriate.

4. Air Quality

The EIS will:

a. Quantitatively evaluate rail operation air emissions, if the project would affect a Class I or non-attainment or maintenance area as designated under the Clean Air Act.

b. Qualitatively evaluate the potential temporary air quality impacts that would result from the proposed rail line construction activities.

c. Qualitatively evaluate the potential for ambient odors that would be associated with the transport of municipal solid waste.

d. Propose mitigation measures to minimize or eliminate potential project-related impacts to air quality, as appropriate.

5. Noise/Vibration

The EIS will:

a. Quantitatively evaluate potential noise impacts, including the use of any auditory warning devices at public road crossings that would result from the proposed rail operations.

b. Qualitatively evaluate the temporary noise impact that would result from the proposed rail line construction activities.

c. Qualitatively evaluate potential vibration impacts to residences and businesses immediately adjacent to the proposed rail line.

d. Propose mitigation measures to minimize or eliminate potential project-related impacts to sensitive noise receptors, (locations where people may be adversely affected by project-related noise), as appropriate.

6. Biological Resources

The EIS will:

a. Evaluate the existing biological resources within the project area, including vegetative communities, terrestrial and aquatic habitats, and known wildlife species.

b. Evaluate potential impacts of this project on any Federal or state threatened and endangered plant or animal species.

c. Describe the proposed project's impact on any wildlife sanctuaries, refuges, national and state parks/forests, or state game lands.

d. Evaluate the potential for vermin/vectors for disease that would be associated with the transport of municipal solid waste, as a result of this project.

e. Document all coordination and consultation that has been conducted with Federal and state agencies having jurisdiction over biological resources.

f. Propose mitigation measures to avoid, minimize or compensate for potential impacts to biological resources, as appropriate.

7. Water Resources

The EIS will:

a. Describe the existing surface water resources that have been identified within the project area, including all jurisdictional wetlands and waterways and their regulatory floodplains.

b. Evaluate project-related impacts to all jurisdictional surface water resources.

c. Evaluate project-related impacts to all groundwater resources and public water supplies.

d. Document the necessary Federal and state water resource/encroachment permitting requirements that would apply to the proposed project.

e. Propose mitigation measures to avoid, minimize or compensate for potential impacts to water resources, as appropriate.

8. Socioeconomics

The EIS will:

a. Summarize the existing local and regional socioeconomic conditions in the project area, including long-term population, housing and employment metrics.

b. Document the locations of existing community facilities and services that have been identified within the project area.

c. Evaluate the proposed project's potential impact to socioeconomic conditions/community facilities and services within the project area, including a discussion of any issues, such as employment gains and losses that would result from the proposed project.

d. Propose mitigation measures to avoid, minimize or compensate for potential impacts to regional socioeconomic factors, as appropriate.

9. Recreation

The EIS will:

a. Identify existing public and private recreational facilities within the project area (including the Snow Shoe Multi-Use Rail Trail), and evaluate the proposed project's impact to these recreational facilities.

b. Propose mitigation measures to avoid, minimize, or compensate for potential project-related impacts to recreational facilities, as appropriate.

10. Environmental Justice

The EIS will:

a. Evaluate the potential project impacts on local and regional minority and low-income populations.

b. Propose mitigation measures to minimize or eliminate potential project impacts on environmental justice populations, as appropriate.

11. Geology and Soils

The EIS will:

a. Describe the geologic and soil conditions within the project area, including the status of past and present coal mining operations.

b. Evaluate potential ways to avoid or construct through active surface mined areas, to the extent practicable.

c. Propose mitigation measures to minimize or eliminate potential project impacts to geology and soils, as appropriate.

12. Cultural/Historic Resources

The EIS will:

a. Document all historic resource eligibility and effect studies that have been conducted pursuant to Section 106 of the National Historic Preservation Act.

b. Document all coordination and consultation related to this project that has taken place with the state historic preservation officer.

c. Propose mitigation measures to minimize or eliminate potential project impacts to cultural/historic resources, as appropriate.

13. Cumulative and Indirect Impacts

The EIS will:

a. Address any identified potential cumulative impacts of the project, as appropriate. Cumulative impacts are the impacts on the environment which result from the incremental impact of the proposed action when added to other past, present, and reasonably foreseeable future actions regardless of what agency (Federal or non-federal) or person undertakes such actions (for example, Resource Recovery, LLC's proposed new landfill, quarry and industrial park).

b. Address any identified potential indirect impacts of the project, as appropriate. Indirect impacts are impacts that are caused by the action and are later in time or farther removed in distance, but are still reasonably foreseeable.

Decided: July 28, 2009.
By the Board, Victoria Rutson, Chief, Section of Environmental Analysis.
Kulunie L. Cannon,
Clearance Clerk.

[FR Doc. E9-18276 Filed 7-30-09; 8:45 am]

BILLING CODE 4915-01-P